DEPARTMENT OF TRANSPORTATION

Federal Aviation Administration

14 CFR Part 39

[Docket No. FAA-2017-0419; Product Identifier 2015-SW-077-AD; Amendment 39-18991; AD 2017-17-01]

RIN 2120-AA64

Airworthiness Directives; Airbus Helicopters

AGENCY: Federal Aviation Administration (FAA), DOT.

ACTION: Final rule.

SUMMARY: We are adopting a new airworthiness directive (AD) for Airbus Helicopters (Airbus) Model AS332L2 and EC225LP helicopters. This AD requires inspections of the main rotor (M/R) blade attachment pins (attachment pins). This AD was prompted by a report of three cracked attachment pins. The actions of this AD are intended to detect and prevent an unsafe condition on these products.

DATES: This AD is effective September 25, 2017.

The Director of the Federal Register approved the incorporation by reference of certain documents listed in this AD as of September 25, 2017.

ADDRESSES: For service information identified in this final rule, contact Airbus Helicopters, 2701 N. Forum Drive, Grand Prairie, TX 75052; telephone (972) 641-0000 or (800) 232-0323; fax (972) 641-3775; or at http://www.helicopters.airbus.com/Website/en/ref/Technical-Support_73.html. You may review the referenced service information at the FAA, Office of the Regional Counsel, Southwest Region, 10101 Hillwood Pkwy., Room 6N-321, Fort Worth, TX 76177. It is also available on the Internet at http://www.regulations.gov by searching for and locating Docket No. FAA-2017-0419.

Examining the AD Docket

You may examine the AD docket on the Internet at http://www.regulations.gov by searching for and locating Docket No. FAA-2017-0419; or in person at the Docket Operations Office between 9 a.m. and 5 p.m., Monday through Friday, except Federal holidays. The AD docket contains this AD, the European Aviation Safety Agency (EASA) AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: David Hatfield, Aviation Safety Engineer, Safety Management Section, Rotorcraft Standards Branch, FAA, 10101 Hillwood Pkwy., Fort Worth, TX 76177; telephone (817) 222-5116; email david.hatfield@faa.gov.

SUPPLEMENTARY INFORMATION:

Discussion

On May 11, 2017, at 82 FR 21956, the Federal Register published our notice of proposed rulemaking (NPRM), which proposed to amend 14 CFR part 39 by adding an AD that would apply to Airbus Model AS332L2 helicopters with an attachment pin part number (P/N) 332A31-2123-00 or P/N 332A31-2115-20 installed and Model EC225LP helicopters with an attachment pin P/N 332A31-3204-20 installed. The NPRM proposed to require an initial and recurring inspection of each attachment pin for corrosion, a crack, and any pitting. If there is a crack or any pitting, the NPRM proposed to require replacing the attachment pin. If there is corrosion, the NPRM proposed to require removing the corrosion up to a maximum of four times. The NPRM also proposed to require performing these inspections prior to installing an attachment pin. The proposed requirements were intended to detect corrosion or a crack in an attachment pin and prevent loss of an M/R blade and subsequent loss of control of the helicopter.

The NPRM was prompted by AD No. 2015-0016, dated January 30, 2015, issued by EASA, which is the Technical Agent for the Member States of the European Union, to correct an unsafe condition for Airbus Model AS 332 L2 and EC 225 LP helicopters with certain part-numbered attachment pins installed. EASA advises of three cracked attachment pins on a Model AS 332 L2 helicopter, which resulted from a combination of factors including corrosion that had initiated in the inner diameter area of the attachment pin chamfer. EASA states that if this condition is not detected and corrected, it may lead to failure of the attachment pin with loss of control of the helicopter. Due to design similarity, Model EC225LP helicopters are also affected by this issue.

For these reasons, EASA AD No. 2015-0016 requires repetitive inspections of the attachment pins for corrosion.

Comments

We gave the public the opportunity to participate in developing this AD, but we did not receive any comments on the NPRM.

FAA's Determination

These helicopters have been approved by the aviation authority of France and are approved for operation in the United States. Pursuant to our bilateral agreement with France, EASA, its technical representative, has notified us of the unsafe condition described in its AD. We are issuing this AD because we evaluated all information provided by EASA and determined the unsafe condition exists and is likely to exist or develop on other helicopters of these same type designs and that air safety and the public interest require adopting the AD requirements as proposed.

Differences Between This AD and the EASA AD

The EASA AD does not require an inspection of the protective coating of each attachment pin for Model EC225LP helicopters. This AD requires inspecting the protective coating of each attachment pin for both model helicopters. The EASA AD requires ensuring there are no corrosion pits without a corresponding corrective action. This AD requires replacing an attachment pin that has any pitting. The EASA AD requires a non-destructive inspection if in doubt about whether there is a crack, while this AD does not. Lastly, the EASA AD requires contacting and returning to Airbus Helicopters any attachment pin with a crack, and this AD does not.

Related Service Information Under 1 CFR Part 51

We reviewed Airbus Helicopters Alert Service Bulletin (ASB) No. AS332-05.00.99, Revision 0, dated December 22, 2014 (AS332-05.00.99), for Model AS332L2 helicopters and Airbus Helicopters ASB No. EC225-05A040, Revision 0, dated December 22, 2014 (EC225-05A040), for Model EC225LP helicopters. Airbus Helicopters advises of cracks discovered in attachment pins that resulted from a combination of factors, but mainly corrosion which initiated in the inner diameter at the chamfer. This service information specifies repetitively inspecting for corrosion and cracks and ensuring there are no corrosion pits in the attachment pins. If there is corrosion, this service information allows an attachment pin to be reworked up to four times before removing it from service. If there is a crack, this service information specifies contacting and sending the attachment pin to Airbus Helicopters.

This service information is reasonably available because the interested parties have access to it through their normal course of business or by the means identified in the ADDRESSES section.

Costs of Compliance

We estimate that this AD affects 5 helicopters of U.S. Registry. We estimate that operators may incur the following costs in order to comply with this AD. Labor costs are estimated at $85 per work-hour.

For Model AS332L2 helicopters, there are no costs of compliance with this AD because there are no helicopters with this type certificate on the U.S. Registry.

For Model EC225LP helicopters, which have ten attachment pins installed, inspecting the attachment pins takes about 1 work-hour for a total cost of $85 per helicopter and $425 for the U.S. fleet. Removing corrosion takes about 1 work-hour for a total cost of $85 per attachment pin. Replacing an attachment pin takes negligible additional labor time and required parts would cost about $5,720.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-17-01 Airbus Helicopters: Amendment 39-18991; Docket No. FAA-2017-0419; Product Identifier 2015-SW-077-AD.

(a) Applicability

This AD applies to the following helicopters, certificated in any category:

(1) Model AS332L2 helicopters with a main rotor (M/R) blade attachment pin (attachment pin) part number (P/N) 332A31-2123-00 or P/N 332A31-2115-20 installed; and

(2) Model EC225LP helicopters with an attachment pin P/N 332A31-3204-20 installed.

(b) Unsafe Condition

This AD defines the unsafe condition as corrosion or a crack in an attachment pin. This condition could result in loss of an M/R blade and subsequent loss of control of the helicopter.

(c) Effective Date

This AD becomes effective September 25, 2017.

(d) Compliance

You are responsible for performing each action required by this AD within the specified compliance time unless it has already been accomplished prior to that time.

(e) Required Actions

(1) For Model AS332L2 helicopters, within 410 hours time-in-service (TIS), and for Model EC225LP helicopters within 660 hours TIS, remove each attachment pin and inspect the protective coating on the inside of the attachment pin for scratches and missing protective coating.

(i) If there is a scratch or any missing protective coating, sand the attachment pin to remove the varnish in the area depicted as “Area A” in Figure 1 of Airbus Helicopters Alert Service Bulletin (ASB) No. AS332-05.00.99, Revision 0, dated December 22, 2014 (AS332-05.00.99), or Airbus Helicopters ASB No. EC225-05A040, Revision 0, dated December 22, 2014 (EC225-05A040), as applicable to your model helicopter.

(ii) Using a 10X or higher power magnifying glass, inspect for corrosion and pitting at the chamfer. An example of pitting is shown in the Accomplishment Instructions, paragraph 3.B.3., Note 1, of AS332-05.00.99, and paragraph 3.B.2., Note 1, of EC225-05A040. If there is any corrosion, remove the corrosion. If there is any pitting, replace the attachment pin. Do not sand the attachment pin to remove a corrosion pit.

(iii) Using a 10X or higher power magnifying glass, inspect the inside and outside of the attachment pin for a crack in the areas depicted as “Area A” and “Area B” in Figure 1 of AS332-05.00.99 or EC225-05A040, as applicable to your model helicopter. Pay particular attention to the chamfer in “Area A.” If there is a crack, remove the attachment pin from service.

(2) Thereafter, for Model AS332L2 helicopters, at intervals not to exceed 825 hours TIS or 26 months, whichever occurs first; and for Model EC225LP helicopters, at intervals not to exceed 1,320 hours TIS or 26 months, whichever occurs first; perform the actions specified in paragraph (e)(1) of this AD. Corrosion may be removed from an attachment pin as specified in paragraph (e)(1)(ii) of this AD a maximum of four times. If there is a fifth occurrence of corrosion on an attachment pin, before further flight, remove the attachment pin from service.

(3) Do not install an attachment pin P/N 332A31-2123-00, P/N 332A31-2115-20, or P/N 332A31-3204-20 on any helicopter unless you have complied with the actions in paragraph (e)(1) of this AD.

(f) Alternative Methods of Compliance (AMOCs)

(1) The Manager, Safety Management Section, FAA, may approve AMOCs for this AD. Send your proposal to: David Hatfield, Aviation Safety Engineer, Safety Management Section, Rotorcraft Standards Branch, FAA, 10101 Hillwood Pkwy., Fort Worth, TX 76177; telephone (817) 222-5116; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

The subject of this AD is addressed in European Aviation Safety Agency (EASA) No. 2015-0016, dated January 30, 2015. You may view the EASA AD on the Internet at http://www.regulations.gov in Docket No. FAA-2017-0419.

(h) Subject

Joint Aircraft Service Component (JASC) Code: 6200, Main Rotor System.

(i) Material Incorporated by Reference

(1) The Director of the Federal Register approved the incorporation by reference of the service information listed in this paragraph under 5 U.S.C. 552(a) and 1 CFR part 51.

(2) You must use this service information as applicable to do the actions required by this AD, unless the AD specifies otherwise.

(i) Airbus Helicopters Alert Service Bulletin (ASB) No. AS332-05.00.99, Revision 0, dated December 22, 2014.

(ii) Airbus Helicopters ASB No. EC225-05A040, Revision 0, dated December 22, 2014.

(3) For Airbus Helicopters service information identified in this AD, contact Airbus Helicopters, 2701 N. Forum Drive, Grand Prairie, TX 75052; telephone (972) 641-0000 or (800) 232-0323; fax (972) 641-3775; or at http://www.helicopters.airbus.com/Website/en/ref/Technical-Support_73.html.

(4) You may view this service information at FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on August 7, 2017.
Scott A. Horn,
Deputy Director for Regulatory Operations, Compliance & Airworthiness Division, Aircraft Certification Service.

[FR Doc. 2017-17084 Filed 8-18-17; 8:45 am]

BILLING CODE 4910-13-P